ENVIRONMENTAL PROTECTION AGENCY

[FRL-8705-9]

Proposed CERCLA Administrative Cost Recovery Settlement; Soiland, Inc., and Stephen H. Trombly, Grugnale Waste/Drum Disposal Site, Milford, NH

AGENCY: Environmental Protection Agency.

ACTION: Notice of proposed settlement; request for public comment.

SUMMARY: In accordance with Section 122(i) of the Comprehensive Environmental Response, Compensation, and Liability Act, as amended (“CERCLA”), 42 U.S.C. 9622(i), notice is hereby given of a proposed administrative settlement for recovery of past costs concerning the Grugnale Waste/Drum Disposal Superfund Site in Milford, New Hampshire with the following settling parties: Soiland, Inc. and Stephen H. Trombly. The settlement requires the settling parties to pay $35,000 to the Hazardous Substance Superfund. The settlement includes a covenant not to sue the settling parties pursuant to Section 107(a) of CERCLA, 42 U.S.C. 9607(a). For thirty (30) days following the date of publication of this notice, the Agency will receive written comments relating to the settlement. The Agency will consider all comments received and may modify or withdraw its consent to the settlement if comments received disclose facts or considerations which indicate that the settlement is inappropriate, improper, or inadequate.

The Agency's response to any comments received will be available for public inspection at One Congress Street, Boston, MA 02114-2023.

DATE: Comments must be submitted by September 17, 2008.

ADDRESSES: Comments should be addressed to Gretchen Muency, Senior Enforcement Counsel, U.S. Environmental Protection Agency, Region I, One Congress Street, Suite 1100 (SES), Boston, Massachusetts 02114-2023 (Telephone No. 617-918-1896) and should refer to: In re: Grugnale Waste/Drum Disposal Superfund Site, U.S. EPA Docket No. 01-2008-0061.

FOR FURTHER INFORMATION CONTACT: A copy of the proposed settlement may be obtained from Gretchen Muench, Senior Enforcement Counsel, U.S. Environmental Protection Agency, Region I, One Congress Street, Suite 1100 (SES), Boston, Massachusetts 02114-2023 (Telephone No. 617-918-1896; E-mail muench.gretchen@epa.gov).

Dated: July 29, 2008.
James T. Owens, III,
Director, Office of Site Remediation and Restoration.

[FR Doc. E8-19089 Filed 8-15-08; 8:45 am]

BILLING CODE 6560-50-P